FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 28, 2023.

A. Federal Reserve Bank of Kansas City (Jeffrey Imgarten, Assistant Vice President) 1 Memorial Drive, Kansas City, Missouri, 64198-0001. Comments can also be sent electronically to KCApplicationComments@kc.frb.org:

1. The Marital Trust created under Indenture of the James S. Birkbeck Revocable Trust, dated April 20, 1995, Holton, Kansas, Paula Birkbeck Taylor, Holton, Kansas, and J. Patrick Birkbeck, Topeka, Kansas, as co-trustees; Paula N. Birkbeck Taylor Revocable Trust UIT dated August 8, 2002, Holton, Kansas, Paula Birkbeck Taylor, as trustee; Paula Birkbeck as co-trustee of the Mary Lou Birkbeck Trust dated April 20, 1995, Holton, Kansas; J. Patrick Birkbeck Revocable Trust UIT dated March 31, 2008, Topeka, Kansas, J. Patrick Birkbeck, as trustee; and Ryan Patrick Taylor, Holton, Kansas; to become members of the Birkbeck/Taylor Family Control Group, a group acting in concert, to retain voting shares of Denison Bancshares, Inc. of Holton, and thereby indirectly retain voting shares of Denison State Bank, both of Holton, Kansas.

Board of Governors of the Federal Reserve System.
Michele Taylor Fennell,
Deputy Associate Secretary of the Board.

[FR Doc. 2023-27357 Filed 12-12-23; 8:45 am]

BILLING CODE P